DEPARTMENT OF TRANSPORTATION

Federal Transit Administration

[Docket Number: FTA-2005-23227]

Notice of Correction

AGENCY: Federal Transit Administration (FTA), DOT.

ACTION: Notice correcting the comment period on FTA's Proposed Title VI Circular.

SUMMARY: On July 14, 2006, the Federal Transit Administration (FTA) published a notice of proposed Circular in the Federal Register (See FR Volume 71, No 135., pp. 40178 to 40187). This notice erroneously stated that comments must be received by August 14, 2006. FTA intends to establish a 60-day comment period. Therefore, comments should be submitted by September 14, 2006. Late comments will be considered to the extent practicable.

ADDRESSES: You may submit comments identified by DOT DMS Docket Number FTA-05-23227 by any of the following methods: Web Site: http://dms.dot.gov. Follow the instructions for submitting comments on the DOT electronic docket site; Fax: 202-493-2251; Mail: Docket Management Facility; U.S. Department of Transportation, 400 Seventh Street, SW., Nassif Building, PL-401, Washington, DC 20590-0001; Hand Delivery: Room PL-401 on the plaza level of the Nassif Building, 400 Seventh Street, SW., Washington, DC, between 9 a.m. and 5 p.m., Monday through Friday, except Federal holidays.

Instructions: You must include the agency name (Federal Transit Administration) and the docket number (FTA-05-23227). You should submit two copies of your comments if you submit them by mail. If you wish to receive confirmation that FTA received your comments, you must include a self-addressed, stamped postcard. Note that all comments received will be posted without change to the Department's Docket Management System (DMS) Web site located at http://dms.dot.gov. This means that if your comment includes any personal identifying information, such information will be made available to users of DMS.

FOR FURTHER INFORMATION CONTACT: David Schneider, Office of Civil Rights, 400 Seventh Street, SW., Washington, DC, 20590, (202) 366-4018 or at David.Schneider@fta.dot.gov.

Issued on: July 24, 2006.
Sandra K. Bushue,
Deputy Administrator.

[FR Doc.E6-12165 Filed 7-28-06; 8:45 am]

BILLING CODE 4910-57-P